FEDERAL COMMUNICATIONS COMMISSION

Sunshine Act Meeting; FCC To Hold Open Meeting Thursday, June 28, 2007 in Portland, ME

June 21, 2007.

The Federal Communications Commission will hold an Open Meeting on Thursday, June 28, 2007 from 4 p.m. to 11 p.m. The Commission will hold its meeting in Portland, Maine at: Portland High School, 284 Cumberland Ave., Portland, Maine.

Link to Portland High School: http://portland.portlandschools.org.

Link to Portland High School Directions: http://portland.portlandschools.org/main/homeroom.htm.

At this meeting, the Commission will consider one item. The Commission also will hear presentations on perspectives on localism from two panels and comments from public parties.

Item No. | Bureau | Subject
1 | Media | Title: Implementation of Section 304 of the Telecommunications Act of 1996; Commercial Availability of Navigation Devices; and Compatibility Between Cable Systems and Consumer Electronics Equipment. (CS Docket No. 97-80, PP Docket No. 00-67).
|  | Summary: The Commission will consider a Third Further Notice of Proposed Rulemaking concerning proposed standards to ensure bidirectional compatibility of multichannel video programming distribution systems and consumer electronics equipment.

A live audio cast of the hearing will be available at the FCC's Web site at www.fcc.gov on a first-come, first-served basis. The FCC will provide sign language interpreters and open captioning for this event. Other reasonable accommodations for people with disabilities are available upon request. Include a description of the accommodation needed, and include a way we can contact you if we need more information. Please make your request as early as possible. Last minute requests will be accepted, but may be impossible to fill. Send an e-mail to fcc504@fcc.gov or call the Consumer & Governmental Affairs Bureau at 202-418-0530 (voice), 202-418-0432 (tty).

For additional information about the meeting, please visit the FCC's Web site at http://www.fcc.gov. Direct all press inquiries to Mary Diamond at 202-418-2388 or David Fiske at 202-418-0513. If you are a member of the press and plan to attend the meeting in Portland, please contact Mary Diamond or David Fiske.

Federal Communications Commission.
Marlene H. Dortch,
Secretary.

[FR Doc. 07-3145 Filed 6-22-07; 12:28 pm]

BILLING CODE 6712-01-P